DEPARTMENT OF HOUSING AND URBAN DEVELOPMENT

[Docket No. FR-4682-N-03]

Notice of Regulatory Waiver Requests Granted for the Third Quarter of Calendar Year 2001

AGENCY: Office of the Secretary, HUD.

ACTION: Public notice of the granting of regulatory waivers from July 1, 2001, through September 30, 2001.

SUMMARY: Section 106 of the Department of Housing and Urban Development Reform Act of 1989 (the “HUD Reform Act”), requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on July 1, 2001 and ending on September 30, 2001.

FOR FURTHER INFORMATION CONTACT: For general information about this notice, contact Aaron Santa Anna, Assistant General Counsel for Regulations, Room 10282, Department of Housing and Urban Development, 451 Seventh Street, SW, Washington, DC 20410; telephone (202) 708-3055 (this is not a toll-free number). Hearing or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from July 1, 2001 through September 30, 2001. This notice also includes a few waivers from an earlier reporting period that were inadvertently omitted from the appropriate earlier report. For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between October 1, 2001 through December 31, 2001.

Accordingly, information about approved waiver requests pertaining to HUD regulations is provided in the Appendix that follows this notice.

Dated: January 22, 2002.
Alphonso Jackson,
Deputy Secretary.

Appendix

Listing of Waivers of Regulatory Requirements Granted by Offices of the Department of Housing and Urban Development July 1, 2001 through September 30, 2001

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Multifamily Housing Assistance Restructuring.

IV. Regulatory waivers granted by the Office of Public and Indian Housing.

I. Regulatory Waivers Granted by the Office of Community Planning and Development

For further information about the following waiver actions, please see the name of the contact person who immediately follows the description of the waiver granted.

• Regulation: 24 CFR 5.110.

Project/Activity: Harris County, Texas requested that certain provisions of Section 290 of the Cranston-Gonzalez National Affordable Housing Act of 1990, as amended, be waived pursuant to 24 CFR 5.110 to allow the county to assist victims of Tropical Storm Allison.

Nature of Requirement: 24 CFR 5.110 allows the Department to waive any provision of the Cranston-Gonzalez National Affordable Housing Act of 1990, as amended, upon determination of good cause.

Granted By: Roy A. Bernardi, Assistant Secretary for Community Planning and Development.

Date Granted: August 13, 2001.

Reasons Waived: The Department determined that there was good cause for granting the waivers. These provisions should be waived to facilitate the County's efforts to assist victims of Tropical Storm Allison.

Contact: Cornelia Robertson-Terry, Office of Community Planning and Development, Room 7152, Department of Housing and Urban Development, 451 Seventh Street, SW., Washington, DC 20410; telephone (202) 708-2565, extension 4556.

• Regulations: 24 CFR 91.105(c); Section 220 (Act); 24 CFR 92.218(a); 24 CFR 92.219(a); 24 CFR 92.220(a); 24 CFR 92.221; 24 CFR 92.222(b); Section 212(e) (Act); 24 CFR 92.250; Section 203(b) (Act); 24 CFR 92.245(a)(iii); Section 231 (Act); 24 CFR 92.300(a)(1); and 24 CFR 92.353.

Project/Activity: Harris County, Texas requested a waiver of several laws and regulations in connection with the provision of HOME funds to address housing damage in an area covered by a Presidential declaration of major disaster.

Nature of Requirement: Relief was sought from the following requirements: 24 CFR 91.105(c)—Citizen Participation Plan requirement to provide not less than 30 days for citizen comment to changes to the Consolidated Plan; Section 220 (NAHA) and 24 CFR 92.218(a)—Amount of matching contribution; 24 CFR 92.219(a)—Recognition of matching contribution; 92.220(a)—Form of matching contribution; 24 CFR 92.221—Match credit; 92.222(b)—Reduction of matching contribution requirement; Section 212(e) (NAHA) and 24 CFR 92.250—Maximum per-unit subsidy; Section 203(b) (NAHA) and 24 CFR 92.245(a)(iii)—Maximum purchase price; Section 231 (NAHA) and 24 CFR 92.300(a)(1)—Set-aside for community housing development organizations; and 24 CFR 92.353—Displacement, relocation, and acquisition.

Granted By: Roy A. Bernardi, Assistant Secretary for Community Planning and Development.

Date Granted: August 13, 2001.

Reasons Waived: 24 CFR 5.110 and Section 290 of the Cranston-Gonzalez National Affordable Housing Act of 1990 respectively provide the Department the authority to waive regulatory provisions and suspend statutory requirements. Due to the severity of the storm damage from Tropical Storm Allison, the Department determined there was good cause to waive the above statutes and regulations.

Contact: Cornelia Robertson-Terry, Office of Community Planning and Development, Room 7152, Department of Planning and Urban Development, 451 Seventh Street, SW., Washington, DC 20410; telephone (202) 708-2565, extension 4556.

• Regulations: 24 CFR 91.520(a).

Project/Activity: The city of Tulare, California requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: August 13, 2001.

Reasons Waived: The regulations at 24 CFR 91.600 provide that “upon determination of good cause, HUD may, subject to statutory limitations, waive any provision of this part” of the regulations. The city requested an extension due to staffing shortages and the heavy workload in the city's Finance Department. The city needs additional time to generate the financial data for its CAPER. While the Department wants grantees to submit CAPER reports in a timely manner, the Department determined that there was good cause for granting this waiver since the staffing concerns would prevent the city from submitting an accurate and complete report. The city received an extension to October 31, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of Trenton, New Jersey requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: August 22, 2001.

Reasons Waived: The regulations at 24 CFR 91.600 provide that “upon determination of good cause, HUD may, subject to statutory limitations, waive any provision of this part” of the regulations. The city requested an extension due to staff changes in the Department of Housing and Economic Development. The city indicated that the additional time would allow for a thorough evaluation of its accomplishments and time for the thirty (30) day comment period. While the Department wants grantees to submit CAPER reports in a timely manner, the Department determined that there was good cause for granting this waiver since additional time would allow for comments and result in a more accurate report. The city received an extension to October 1, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of New Britain, Connecticut requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 5, 2001.

Reasons Waived: The regulations at 24 CFR 91.600 provide that “upon determination of good cause, HUD may, subject to statutory limitations, waive any provision of this part” of the regulations. The city requested an extension due to medical absence of the Grants Administrator from August to mid-September. This individual is responsible for the completion of New Britain's CAPER. While the Department wants grantees to submit CAPER reports in a timely manner, the Department determined that there was good cause for granting this waiver due to the circumstances described in the request. The city received an extension to October 31, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The County of Baltimore, Maryland requested a waiver of the submission deadline for the county's 2000 program year CAPER.

Nature of Requirement: The regulation at 24 CFR 91.520(a) requires each grantee to submit a performance report to HUD within 90 days after the close of the grantee's program year.

Granted By: Roy A. Bernardi, Assistant Secretary for Community Planning and Development.

Date Granted: September 20, 2001.

Reasons Waived: The regulations at 24 CFR 91.600 provide that “upon determination of good cause, HUD may, subject to statutory limitations, waive any provision of this part” of the regulations. The County's Office of Community Conservation, which administers the CDBG program, will not be able to submit a complete CAPER report until Baltimore County closes out its fiscal year at the end of September. While the Department wants grantees to submit CAPER reports in a timely manner, the Department determined that there was good cause for granting this waiver because of the delay in the county's fiscal year closeout procedures. The county received an extension to November 30, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of Baltimore, Maryland requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 20, 2001.

Reasons Waived: The regulations at 24 CFR 91.600 provide that “upon determination of good cause, HUD may, subject to statutory limitations, waive any provision of this part” of the regulations. The city requested an extension due to organizational and personnel changes. Additionally, the city of Baltimore does not release financial records until the middle of August and it takes an additional month for review of these records. While the Department wants grantees to submit CAPER reports in a timely manner, the Department determined that there was good cause for granting this waiver due to the circumstances described in the city's request. The city received an extension to December 3, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The County of Hudson, New Jersey requested a waiver of the submission deadline for the county's 2000 program year CAPER.

Nature of Requirement: The regulation at 24 CFR 91.520(a) requires each grantee to submit a performance report to HUD within 90 days after the close of the grantee's program year.

Granted By: Roy A. Bernardi, Assistant Secretary for Community Planning and Development.

Date Granted: September 24, 2001.

Reasons Waived: The regulations at 24 CFR 91.600 provide that “upon determination of good cause, HUD may, subject to statutory limitations, waive any provision of this part” of the regulations. The county requested an extension due to the fact that the Chief of the County Division resigned and this individual was responsible for preparing the CAPER. While the Department wants grantees to submit CAPER reports in a timely manner, the Department determined that there was good cause for granting this waiver due to the staffing concerns. The county received an extension to November 27, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: Cherry Hill Township, New Jersey requested a waiver of the submission deadline for the township's 2000 program year CAPER.

Nature of Requirement: The regulation at 24 CFR 91.520(a) requires each grantee to submit a performance report to HUD within 90 days after the close of the grantee's program year.

Granted By: Roy A. Bernardi, Assistant Secretary for Community Planning and Development.

Date Granted: September 24, 2001.

Reasons Waived: The regulations at 24 CFR 91.600 provide that “upon determination of good cause, HUD may, subject to statutory limitations, waive any provision of this part” of the regulations. The township requested an extension due to staffing changes within the Department of Community Development. This Department has responsibility for preparing the CAPER. The township needs additional time to evaluate its accomplishments and allow for public comment. While the Department wants grantees to submit CAPER reports in a timely manner, the Department determined that there was good cause for granting this waiver since the staffing concerns would prevent the city from submitting an accurate and complete report and meet the other requirement. The township received an extension to October 31, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of Lawton, Oklahoma requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 24, 2001.

Reasons Waived: The regulations at 24 CFR 91.600 provide that “upon determination of good cause, HUD may, subject to statutory limitations, waive any provision of this part” of the regulations. The city requested an extension because the office had to relocate due to the presence of mold. The office did not have access to its file and was forced to work out of temporary office space. While the Department wants grantees to submit CAPER reports in a timely manner, the Department determined that there was good cause for granting this waiver due to the office relocation as documented. The city received an extension to December 30, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of Philadelphia, Pennsylvania requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 24, 2001.

Reasons Waived: The regulations at 24 CFR 91.600 provide that “upon determination of good cause, HUD may, subject to statutory limitations, waive any provision of this part” of the regulations. The city needs additional time to obtain the financial data for its CAPER. While the Department wants grantees to submit CAPER reports in a timely manner, the Department determined that there was good cause for granting this waiver based on the city's documentation of failure to obtain the necessary information. The city received an extension to November 1, 2001 to submit its 2000 CAPER to HUD.

Contact: Cornelia Robertson-Terry, Office of Community Planning and Development, Room 7152, Department of Housing and Urban Development, 451 Seventh Street, SW, Washington, DC 20410; telephone (202) 708-2565, extension 4556.

• Regulation: 24 CFR 91.520(a).

Project/Activity: Harford County, Maryland requested a waiver of the submission deadline for the county's 2000 program year CAPER.

Nature of Requirement: The regulation at 24 CFR 91.520(a) requires each grantee to submit a performance report to HUD within 90 days after the close of the grantee's program year.

Granted By: Roy A. Bernardi, Assistant Secretary for Community Planning and Development.

Date Granted: September 25, 2001.

Reasons Waived: The regulations at 24 CFR 91.600 provide that “upon determination of good cause, HUD may, subject to statutory limitations, waive any provision of this part” of the regulations. The county requested an extension because the community development staff is responding to outstanding monitoring findings related to data required for the CAPER. The county is making progress in correcting data entered into HUD's Integrated Disbursement and Information System (IDIS). The IDIS information is used to compile CAPER data. Due to these responsibilities, the county will be unable to meet the deadline date. While the Department wants grantees to submit CAPER reports in a timely manner, the Department determined that there was good cause for granting this waiver to ensure an accurate report. The county received an extension to October 26, 2001 to submit its 2000 CAPER to HUD.

Contact: Cornelia Robertson-Terry, Office of Community Planning and Development, Room 7152, Department of Housing and Urban Development, 451 Seventh Street, SW, Washington, DC 20410; telephone (202) 708-2565, extension 4556.

• Regulations: 24 CFR 91.520(a).

Project/Activity: Anoka County, Minnesota requested a waiver of the submission deadline for the county's 2000 program year CAPER.

Nature of Requirement: The regulation at 24 CFR 91.520(a) requires each grantee to submit a performance report to HUD within 90 days after the close of the grantee's program year.

Granted By: Roy A. Bernardi, Assistant Secretary for Community Planning and Development.

Date Granted: September 25, 2001.

Reasons Waived: The regulations at 24 CFR 91.600 provide that “upon determination of good cause, HUD may, subject to statutory limitations, waive any provision of this part” of the regulations. The county requested an extension due to staffing shortages. The county lost three staff members during the past year. Due to the staff turnover and the fact that the new manager only recently came on board, additional time is needed to complete preparation of the county's CAPER. While the Department wants grantees to submit CAPER reports in a timely manner, the Department determined that there was good cause for granting this waiver due to staffing concerns. The county received an extension to October 31, 2001 to submit its 2000 CAPER to HUD.

Contact: Cornelia Robertson-Terry, Office of Community Planning and Development, Room 7152, Department of Housing and Urban Development, 451 Seventh Street, SW, Washington, DC 20410; telephone (202) 708-2565, extension 4556.

• Regulations: 24 CFR 91.520(a).

Project/Activity: The city of Virginia Beach, Virginia requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 25, 2001.

Reasons Waived: The regulations at 24 CFR 91.600 provide that “upon determination of good cause, HUD may, subject to statutory limitations, waive any provision of this part” of the regulations. The city requested an extension due to technical difficulties with the Integrated Disbursement and Information System (IDIS) and the delayed receipt of information from two service providers. While the Department wants grantees to submit CAPER reports in a timely manner, the Department determined that there was good cause for granting this waiver due to the circumstances described in the request. The city received an extension to October 19, 2001 to submit its 2000 CAPER to HUD.

Contact: Cornelia Robertson-Terry, Office of Community Planning and Development, Room 7152, Department of Housing and Urban Development, 451 Seventh Street, SW, Washington, DC 20410; telephone (202) 708-2565, extension 4556.

• Regulation: 24 CFR 91.520(a).

Project/Activity: The city of Suffolk, Virginia requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 25, 2001.

Reasons Waived: The regulations at 24 CFR 91.600 provide that “upon determination of good cause, HUD may, subject to statutory limitations, waive any provision of this part” of the regulations. The city requested an extension due to city's need to clean up information in its Integrated Disbursement and Information System (IDIS). While the Department wants grantees to submit CAPER reports in a timely manner, the Department determined that there was good cause for granting this waiver due to the need for IDIS clean up. The city received an extension to October 29, 2001 to submit its 2000 CAPER to HUD.

Contact: Cornelia Robertson-Terry, Office of Community Planning and Development, Room 7152, Department of Housing and Urban Development, 451 Seventh Street, SW, Washington, DC 20410; telephone (202) 708-2565, extension 4556.

• Regulation: 24 CFR 91.520(a).

Project/Activity: The state of Vermont requested a waiver of the submission deadline for the state's 2000 program year CAPER.

Nature of Requirement: The regulation at 24 CFR 91.520(a) requires each grantee to submit a performance report to HUD within 90 days after the close of the grantee's program year.

Granted By: Roy A. Bernardi, Assistant Secretary for Community Planning and Development.

Date Granted: September 25, 2001.

Reasons Waived: The regulations at 24 CFR 91.600 provide that “upon determination of good cause, HUD may, subject to statutory limitations, waive any provision of this part” of the regulations. The state requested an extension due to staffing shortages caused by budget restraints and a redesign of the program that has resulted in increased workload for existing staff. While the Department wants grantees to submit CAPER reports in a timely manner, the Department determined that there was good cause for granting this waiver due to the staffing concerns. The state received an extension to November 30, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of West Covina, California requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 26, 2001.

Reasons Waived: The regulations at 24 CFR 91.600 provide that “upon determination of good cause, HUD may, subject to statutory limitations, waive any provision of this part” of the regulations. The city requested an extension due to adjustment and alignment of city staff. The city determined that it would be prudent to hire a consultant to produce the city's CAPER. While the Department wants grantees to submit CAPER reports in a timely manner, the Department determined that there was good cause for granting this waiver because of the time necessary to hire and acclimate the consultant staff. The city received an extension to October 29, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of Bristol, Virginia requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 26, 2001.

Reasons Waived: The regulations at 24 CFR 91.600 provide that “upon determination of good cause, HUD may, subject to statutory limitations, waive any provision of this part” of the regulations. The city requested an extension to allow the city clerk to complete its 1999 program year fiscal closeout procedures before reconciling expenditures for the 2000 program year. The city needs additional time to generate the financial data for its CAPER. While the Department wants grantees to submit CAPER reports in a timely manner, the Department determined that there was good cause for granting this waiver. The City received an extension to October 29, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of Portsmouth, Virginia requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 26, 2001.

Reasons Waived: The regulations at 24 CFR 91.600 provide that “upon determination of good cause, HUD may, subject to statutory limitations, waive any provision of this part” of the regulations. The city requested an extension because the city's new community development staff is not familiar with the CAPER development process. While the Department wants grantees to submit CAPER reports in a timely manner, the Department determined that there was good cause for granting this waiver in view of the new CPD staff. The city received an extension to November 16, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 91.520(a).

Project/Activity: The city of Portland/Portland Consortium, Oregon requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 26, 2001.

Reasons Waived: The regulations at 24 CFR 91.600 provide that “upon determination of good cause, HUD may, subject to statutory limitations, waive any provision of this part” of the regulations. The city requested an extension in order to ensure the accuracy of data reported from sub recipients. In addition, the consortium has encountered technical difficulties in producing the narrative portion of its CAPER. While the Department wants grantees to submit CAPER reports in a timely manner, the Department determined that there was good cause for granting this waiver to allow the consortium time to verify data and complete the narrative section. The Portland Consortium received an extension to October 31, 2001 to submit its 2000 CAPER to HUD.

Contact: Cornelia Robertson-Terry, Office of Community Planning and Development, Room 7152, Department of Housing and Urban Development, 451 Seventh Street, SW., Washington, DC 20410; telephone (202) 708-2565, extension 4556.

• Regulations: 24 CFR 91.520(a).

Project/Activity: The city of Alexandria, Virginia requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 26, 2001.

Reasons Waived: The regulations at 24 CFR 91.600 provide that “upon determination of good cause, HUD may, subject to statutory limitations, waive any provision of this part” of the regulations. The city requested an extension due to lack of permanent fiscal staff that which delayed the completion of the financial reporting requirements for the CAPER and the public comment requirement. While the Department wants grantees to submit CAPER reports in a timely manner, the Department determined that there was good cause for granting this waiver due to staffing concerns. The city received an extension to October 31, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 91.520(a).

Project/Activity: The city of Urbana, Illinois requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 26, 2001.

Reasons Waived: The regulations at 24 CFR 91.600 provide that “upon determination of good cause, HUD may, subject to statutory limitations, waive any provision of this part” of the regulations. The city requested an extension to allow additional budget and policy analysis necessary to address concerns regarding the city's expenditure under the CDBG public service cap. While the Department wants grantees to submit CAPER reports in a timely manner, the Department determined that there was good cause for granting this waiver to ensure an accurate report. The city received an extension to October 31, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 91.520(a).

Project/Activity: The city of Lowell, Massachusetts requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 27, 2001.

Reasons Waived: The regulations at 24 CFR 91.600 provide that “upon determination of good cause, HUD may, subject to statutory limitations, waive any provision of this part” of the regulations. The city requested an extension to ensure completion of the city's Integrated Disbursement and Information System (IDIS) data review, update, and reconciliation process. In addition, the city anticipates possible shifts in staff priorities in order to address Consolidated Plan issues. While the Department wants grantees to submit CAPER reports in a timely manner, the Department determined that there was good cause for granting this waiver due to staff priorities and IDIS review, update, and reconciliation. The city received an extension to October 19, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 91.520(a).

Project/Activity: The city of Nashua, New Hampshire requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 27, 2001.

Reasons Waived: The regulations at 24 CFR 91.600 provide that “upon determination of good cause, HUD may, subject to statutory limitations, waive any provision of this part” of the regulations. The city requested an extension because audited financial figures required for the reporting year will not be available until the middle of October. While the Department wants grantees to submit CAPER reports in a timely manner, the Department determined that there was good cause for granting this waiver to allow time for the audited financial data. The city received an extension to October 30, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 91.520(a).

Project/Activity: The city of Simi Valley, California requested a waiver of the submission deadline for the city's 2000 program year CAPER.

Nature of Requirement: The regulation at 24 CFR 91.520(a) requires each grantee to submit a performance report to HUD within 90 days after the close of the grantee's program year.

Granted By: Roy A. Bernardi, Assistant Secretary for Community Planning and Development.

Date Granted: September 28, 2001.

Reasons Waived: The regulations at 24 CFR 91.600 provide that “upon determination of good cause, HUD may, subject to statutory limitations, waive any provision of this part” of the regulations. The city requested an extension due to technical difficulties with the city's Integrated Disbursement and Information System (IDIS). While the Department wants grantees to submit CAPER reports in a timely manner, the Department determined that there was good cause for granting this waiver in order to allow time for the corrections to the IDIS to ensure an accurate and complete report. The city received an extension to October 23, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 91.520(a).

Project/Activity: The State of Alaska requested a waiver of the submission deadline for the state's 2000 program year CAPER.

Nature of Requirement: The regulation at 24 CFR 91.520(a) requires each grantee to submit a performance report to HUD within 90 days after the close of the grantee's program year.

Granted By: Roy A. Bernardi, Assistant Secretary for Community Planning and Development.

Date Granted: September 26, 2001.

Reasons Waived: The regulations at 24 CFR 91.600 provide that “upon determination of good cause, HUD may, subject to statutory limitations, waive any provision of this part” of the regulations. The state requested an extension due to a family emergency of a key staff person who is responsible for preparing the CAPER. While the Department wants grantees to submit CAPER reports in a timely manner, the Department determined that there was good cause for granting this waiver due to the staffing problem and the need to allow sufficient time for public comment. The state received an extension to October 30, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 91.520(a).

Project/Activity: The Commonwealth of Virginia requested a waiver of the submission deadline for the state's 2000 program year CAPER.

Nature of Requirement: The regulation at 24 CFR 91.520(a) requires each grantee to submit a performance report to HUD within 90 days after the close of the grantee's program year.

Granted By: Roy A. Bernardi, Assistant Secretary for Community Planning and Development.

Date Granted: October 1, 2001.

Reasons Waived: The regulations at 24 CFR 91.600 provide that “upon determination of good cause, HUD may, subject to statutory limitations, waive any provision of this part” of the regulations. The city requested an extension due to personnel changes in the Virginia Housing Division. The state also needs time to develop information from the state and the Integrated Disbursement and Information System (IDIS) reporting formats. While the Department wants grantees to submit CAPER reports in a timely manner, the Department determined that there was good cause for granting this waiver. The state received an extension to October 26, 2001 to submit its 2000 CAPER to HUD.

Contact: Cornelia Robertson-Terry, Office of Community Planning and Development, Room 7152, Department of Housing and Urban Development, 451 Seventh Street, SW., Washington, DC 20410; telephone (202) 708-2565, extension 4556.

• Regulation: 24 CFR 92.251.

Project/Activity: The State of North Dakota requested a waiver of the requirement that HOME-assisted housing in certain counties and Indian Reservations covered under a Presidential Declaration of major disaster meet the applicable codes and property.

Nature of the Requirement: 24 CFR 92.251 requires all HOME-assisted housing to meet the acceptable codes, standards and ordinances, and zoning ordinances at the time of project completion to ensure that HOME-assisted housing is decent, safe, and sanitary.

Granted By: Donna Abbenante, Acting General Deputy Assistant Secretary for Community Planning and Development.

Date Granted: July 13, 2001.

Reasons Waived: Section 290 of the Cranston-Gonzalez National Affordable Housing Act allows a suspension of certain statutory requirements to facilitate emergency repairs on damaged housing within a Presidentially-declared Major Disaster Area to alleviate the hardship placed on the families affected by the disaster.

Contact: Cornelia Robertson-Terry, Office of Community Planning and Development, Room 7152, Department of Planning and Urban Development, 451 Seventh Street, SW., Washington, DC 20410; telephone (202) 708-2565, extension 4556.

• Regulation: 24 CFR 92.214(a)(7).

Project/Activity: The city of Warren, Ohio requested a waiver of the provision that prohibit additional HOME assistance to a project previously assisted with HOME funds during the period of affordability.

Nature of Requirement: 24 CFR 92.214(a)(7) prohibit additional HOME assistance to a project previously assisted with HOME funds during the period of affordability.

Granted By: Roy A. Bernardi, Assistant Secretary for Community Planning and Development.

Date Granted: July 26, 2001.

Reasons Waived: 24 CFR 5.110 allows the Department to waive provisions of the HOME rule upon determination of good cause. The city recommended that additional HOME funds would be used to address the lead-based paint (LBP) issues in 35 homes by painting the homes rather than installing more costly vinyl siding in order to maximize the use of scare resources for the project.

Contact: Cornelia Robertson-Terry, Office of Community Planning and Development, Room 7152, Department of Housing and Urban Development, 451 Seventh Street, SW., Washington, DC 20410; telephone (202) 708-2565, extension 4556.

• Regulation: 24 CFR 583.115(2).

Project/Activity: Dade County, Florida Homeless Trust requested a waiver of the Supportive Housing Program rule that rents paid with funds for individuals must not exceed HUD-determined fair market rents.

Nature of Requirement: 24 CFR 583.115(2) prohibits grantees from using Supportive Housing Program funds to pay for rents that exceed HUD-determined fair market rents.

Granted By: Roy A. Bernardi, Assistant Secretary for Community Planning and Development.

Date Granted: September 17, 2001.

Reasons Waived: HUD determined that there is good cause to grant the waiver. Due to the increase in rents in the Miami Beach, it is difficult to find any units at or below the HUD-determined Fair Market Rent (FMR). Approving this waiver will avoid the displacement of clients from a familiar community and assist in their move to self-sufficiency through the enhancement of supportive services.

Contact: Cornelia Robertson-Terry, Office of Community Planning and Development, Room 7152, Department of Housing and Urban Development, 451 Seventh Street, SW., Washington, DC telephone (202) 708-2565, extension 4556.

II. Regulatory Waivers Granted by the Office of Housing

For further information about the following waiver actions, please see the name of the contact person who immediately follows the description of the waiver granted.

• Regulation: 1998 National SuperNOFA, Housing Counseling Training Program, 63 Federal Register 23977 (NOFA).

Project/Activity: A grantee under the NOFA requested a waiver of the NOFA prohibition on reimbursing counselors for the travel and hotel costs they incur when attending grantee's training sessions.

Nature of Requirement: The program requirements section of the NOFA explicitly prohibits grantees from reimbursing participating counselors for the travel, hotel, and food costs associated with their attendance at grantee's training.

Granted By: Sean G. Cassidy, General Deputy Assistant Secretary for Housing-Federal Housing Commissioner.

Date Granted: July 31, 2001.

Reason Waived: The low turnout of counselors for grantee's training has been attributed to the inability of counselors and their counseling agencies to obtain sufficient funds to cover the travel and hotel costs incurred when attending the training. As a consequence of the inability of counselors to attend the training provided by grantee, the quality of counseling provided to renters and homeowners may suffer. HUD created the grants program for training because it determined that there was a nationwide need for training. HUD believes that the need for training continues to exist today. Therefore, a limited waiver of the prohibition on using grant funds to reimburse for travel and hotel costs is in the public interest and consistent with the programmatic objectives, under the statutory authority for the grants program, of helping to improve the quality of housing counseling available to renters and homeowners.

Contact: Jo Anne B. Edwards, Housing Program/Policy Specialist, Office of Single Family Program Development, Department of Housing and Urban Development, 451 Seventh Street, SW., Washington, DC 20410, telephone (202) 708-0614, extension 2320.

• Regulation: 24 CFR 219.

Project/Activity: Allen Temple Apartments, FHA Project Numbers: 061-55007, 061-55016, and 061-55024. The Atlanta Multifamily Hub has requested a waiver of the Flexible Subsidy financing in place following the FHA-insured refinancing/rehabilitation of the subject properties.

Nature of Requirement: Regulations at 24 at CFR 219 governs the repayment of assistance provided under the Flexible Subsidy Program for Troubled Projects prior to May 1, 1996. It requires the repayment of the flexible subsidy loan at time of prepayment.

Granted By: John C. Weicher, Assistant Secretary for Housing-Federal Housing Commissioner.

Date Granted: August 1, 2001.

Reason Waived: The Assistant Secretary has approved this waiver because good cause has been shown that it is in the public's best interest to grant this waiver. Providing for a waiver of the repayment of the flexible subsidy loans will allow the owner to prepay the existing mortgages, obtain one new FHA-insured mortgage to perform substantial rehabilitation of the properties and allow the flexible subsidy loan to remain as a soft second mortgage. If the waiver was not granted, the owner would not have the available funds to repay the flexible subsidy loan nor obtain the FHA-insured financing of the new mortgage, thereby losing the opportunity to improve this much needed housing for low income citizens of Atlanta, Georgia.

Contact: Marc A. Harris, Director, Field Asset Management Division, Office of Asset Management, Room 6160, Department of Housing and Urban Development, 451 Seventh Street, SW., Washington, DC 20410; telephone (202) 708-0614 extension 2680.

• Regulation: 24 CFR 234.26(e)(3) and 24 CFR Part 234.26(i)(1)(iii).

Project/Activity: McLean Hills Condominium, McLean, Virginia.

Nature of Requirement: Title 24 of the Code of Federal Regulations, Part 234.26(e)(3) requires that in order for a condominium unit to be eligible for FHA mortgage insurance, at least 51% of all family units in the condominium project must be occupied by the owners as a principal residence or a secondary residence sold to owners who intend to meet this occupancy requirement. 24 CFR 234.26(i)(l)(iii) provides that no single entity (the same individual, investor group, partnership or corporation) may own more than 10 percent of the total number of units in a unapproved condominium project where FHA insurance is sought on a unit under HUD's condominium spot loan activities.

Granted By: John C. Weicher, Assistant Secretary for Housing-Federal Housing Commissioner.

Date Granted: July 11, 2001.

Reason Waived: Forty three percent of the units were owner occupied. Seventeen percent of the units were owned by the Fairfax County Redevelopment and Housing Authority. These units were rented under the county's moderate income rental program as part of its mission to develop and preserve affordable housing for low and moderate income households. Granting the waiver assisted HUD in attaining its objectives of promoting affordable housing for low- and moderate-income families and generally expanding homeownership opportunities.

Contact: Maynard T. Curry, Office of Single Family Program Development, Department of Housing and Urban Development, 451 Seventh Street, SW., Washington, DC 20410, telephone (202) 708-2121.

• Regulation: 24 CFR 291.210(a).

Project/Activity: Teacher Next Door (TND) Initiative.

Nature of Requirement: Extension of sales under the Department's TND Initiative through March 1, 2002.

Granted By: John C. Weicher, Assistant Secretary for Housing-Federal Housing Commissioner.

Date Granted: August 2, 2001.

Reason Waived: To permit the continued sales of FHA insurable and uninsurable properties in designated revitalization areas to qualified teachers on a direct sales basis.

Contact: Dennis White, Housing Program Officer, Office of Single Family Asset Management, Department of Housing and Urban Development, 451 Seventh Street, SW., Washington, DC 20410; telephone (202)-708-0614, extension 2306.

• Regulation: 24 CFR 891.100(d).

Project/Activity: The Palmer House, City of Wilkes-Barre, Luzerne County, Pennsylvania, Project Number: 034-EE091/PA26-S981-012.

Nature of Requirement: HUD's regulation at 24 CFR 891.100(d) prohibits amendment of the amount of approved capital advance funds prior to initial closing.

Granted By: John C. Weicher, Assistant Secretary for Housing-Federal Housing Commissioner.

Date Granted: July 5, 2001.

Reason Waived: The project was economically designed, comparable in cost to similar projects; and with the loss of expected gap financing, the Sponsor could not contribute any additional funds.

Contact: Monique Love, Office of Housing Assistance and Grant Administration, Department of Housing and Urban Development, 451 Seventh Street SW., Washington, DC 20410; telephone (202) 708-0614 extension 2475.

• Regulation: 24 CFR 891.100(d).

Project/Activity: Access House I, Parsippany, New Jersey, Project Number: 031-HD078/NJ39-Q971-001.

Nature of Requirement: HUD's regulation at 24 CFR 891.100(d) prohibits amendment of the amount of approved capital advance funds prior to initial closing.

Granted By: John C. Weicher, Assistant Secretary for Housing-Federal Housing Commissioner.

Date Granted: July 5, 2001.

Reason Waived: The project was modest in design, comparable to similar projects in the area, the Owner had secured $143,000 in HOME funds and $20,000 from the Church of the Savior, and the Sponsor had exhausted all means of obtaining the additional funds.

Contact: Faye Norman, Office of Housing Assistance and Grant Administration, Department of Housing and Urban Development, 451 Seventh Street SW., Washington, DC 20410; telephone (202) 708-0614 extension 2482.

• Regulation: 24 CFR 891.100(d).

Project/Activity: Adda and Paul Safran Senior Housing, Los Angeles, California, Project Number: 122-EE127/CA16-S971-012.

Nature of Requirement: HUD's regulation at 24 CFR 891.100(d) prohibits amendment of the amount of approved capital advance funds prior to initial closing.

Granted By: John C. Weicher, Assistant Secretary for Housing-Federal Housing Commissioner.

Date Granted: July 5, 2001.

Reason Waived: Land and construction costs in the Los Angeles are very high, the Sponsor received a commitment of funds in the amount of $3,662,000 from the City of Los Angeles' Housing Department and the Sponsor had exhausted all means of obtaining the additional funds.

Contact: Rita Ross, Office of Housing Assistance and Grant Administration, Department of Housing and Urban Development, 451 Seventh Street SW., Washington, DC 20410; telephone (202) 708-0614 extension 2696.

• Regulation: 24 CFR 891.100(d).

Project/Activity: St. Boniface Gardens, Pembroke Pines, Broward County, Florida, Project Number: 066-EE074/FL29-S991-006.

Nature of Requirement: HUD's regulation at 24 CFR 891.100(d) prohibits amendment of the amount of approved capital advance funds prior to initial closing.

Granted By: John C. Weicher, Assistant Secretary for Housing-Federal Housing Commissioner.

Date Granted: July 20, 2001.

Reason Waived: Site development and construction costs have increased significantly. Broward County has agreed to waive a portion of the impact fees; and the Sponsor is contributing $300,000 and has exhausted all efforts to obtain the additional funds from other sources.

Contact: Rita Ross, Office of Housing Assistance and Grant Administration, Department of Housing and Urban Development, 451 Seventh Street SW., Washington, DC 20410; telephone: (202) 708-0614 extension 2696.

• Regulation: 24 CFR 891.100(d).

Project/Activity: The Benjamin Rush House, Jasper, Indiana, Project Number: 073-HD052.

Nature of Requirement: HUD's regulation at 24 CFR 891.100(d) prohibits amendment of the amount of approved capital advance funds prior to initial closing.

Granted By: John C. Weicher, Assistant Secretary for Housing-Federal Housing Commissioner.

Date Granted: August 1, 2001.

Reason Waived: The project was economically designed, comparable to other similar projects developed in the jurisdiction and all efforts to lower the cost of the project had been exhausted.

Contact: Dianna Plaugher, Office of Housing Assistance and Grant Administration, Department of Housing and Urban Development, 451 Seventh Street SW., Washington, DC 20410; telephone: (202) 708-0614 extension 6791.

• Regulation: 24 CFR 891.100(d).

Project/Activity: Moreno Valley Senior Housing, Moreno Valley, California, Project Number: 143-EE037/CA43-S001-001.

Nature of Requirement: HUD's regulation at 24 CFR 891.100(d) prohibits amendment of the amount of approved capital advance funds prior to initial closing.

Granted By: John C. Weicher, Assistant Secretary for Housing-Federal Housing Commissioner.

Date Granted: August 1, 2001.

Reason Waived: The project was economically designed and comparable to other projects in the area, and the Sponsor had exhausted all efforts to find additional funds.

Contact: Frank Tolliver, Office of Housing Assistance and Grant Administration, Department of Housing and Urban Development, 451 Seventh Street SW., Washington, DC 20410; telephone (202) 708-0614 extension 3821.

• Regulation: 24 CFR 891.100(d).

Project/Activity: New Generation Apartments, Omaha, Nebraska, Project Number: 103-HD022/NE26-Q991-002.

Nature of Requirement: HUD's regulation at 24 CFR 891.100(d) prohibits amendment of the amount of approved capital advance funds prior to initial closing.

Granted By: John C. Weicher, Assistant Secretary for Housing-Federal Housing Commissioner.

Date Granted: August 3, 2001.

Reason Waived: The project was economically designed, comparable to similar projects in the area and the Sponsor had exhausted all efforts to obtain additional funding from other sources.

Contact: Brenda Butler, Office of Housing Assistance and Grant Administration, Department of Housing and Urban Development, 451 Seventh Street SW., Washington, DC 20410; telephone (202) 708-0614 extension 6788.

• Regulation: 24 CFR 891.100(d).

Project/Activity: Jireh Meadows, Columbus, Ohio, Project Number: 043/HD041/OH16-Q991-004.

Nature of Requirement: HUD's regulation at 24 CFR 891.100(d) prohibits amendment of the amount of approved capital advance funds prior to initial closing.

Granted By: John C. Weicher, Assistant Secretary for Housing-Federal Housing Commissioner

Date Granted: August 7, 2001.

Reason Waived: The project was economically designed, the cost was in line with the Sponsor's two other Section 811 projects under construction in the jurisdiction, and the Sponsor and consultant had exhausted all efforts to obtain additional funds from outside sources.

Contact: Gail Williamson, Office of Housing Assistance and Grant Administration, Department of Housing and Urban Development, 451 Seventh Street SW., Washington, DC 20410; telephone (202) 708-0614 extension 2473.

• Regulation: 24 CFR 891.100(d).

Project/Activity: Timber Hills Independent Living Complex, Corinth, Mississippi, Project Number: 065-HD022/MS26-Q991-002.

Nature of Requirement: HUD's regulation at 24 CFR 891.100(d) prohibits amendment of the amount of approved capital advance funds prior to initial closing.

Granted By: John C. Weicher, Assistant Secretary for Housing-Federal Housing Commissioner.

Date Granted: August 24, 2001.

Reason Waived: The development costs in the area were high. The Sponsor provided $45,155 for off-site improvements, and the poor soil conditions required heavier building foundations as well as extensive cut and fill preparation.

Contact: Rita Ross, Office of Housing Assistance and Grant Administration, Department of Housing and Urban Development, 451 Seventh Street SW., Washington, DC 20410; telephone (202) 708-0614 extension 2696.

• Regulation: 24 CFR 891.100(d).

Project/Activity: Castlewood Terrace II, Granada Hills, California, Project Number: 122-EE150/CA16-S991-001.

Nature of Requirement: HUD's regulation at 24 CFR 891.100(d) prohibits amendment of the amount of approved capital advance funds prior to initial closing.

Granted By: John C. Weicher, Assistant Secretary for Housing-Federal Housing Commissioner.

Date Granted: August 28, 2001.

Reason Waived: The City required the project to meet the 1998 edition of the Los Angeles Building Code and substantially increased the cost of the project. The project was economically designed and comparable to other projects in the area, and the Sponsor had exhausted all efforts to find additional funds.

Contact: Frank Tolliver, Office of Housing Assistance and Grant Administration, Department of Housing and Urban Development, 451 Seventh Street SW., Washington, DC 20410; telephone (202) 708-0614 extension 3821.

• Regulation: 24 CFR 891.100(d).

Project/Activity: Beth Anne Extended Living, Chicago, Illinois, Project Number: 071-EE149/IL06-S991-008.

Nature of Requirement: HUD's regulation at 24 CFR 891.100(d) prohibits amendment of the amount of approved capital advance funds prior to initial closing.

Granted By: John C. Weicher, Assistant Secretary for Housing-Federal Housing Commissioner.

Date Granted: August 30, 2001.

Reason Waived: The project was modestly designed, comparable to other similar projects and the Sponsor had exhausted all means of obtaining additional funds.

Contact: Dianna Plaugher, Office of Housing Assistance and Grant Administration, Department of Housing and Urban Development, 451 Seventh Street SW., Washington, DC 20410; telephone (202) 708-0614 extension 6791.

• Regulation: 24 CFR 891.100(d).

Project/Activity: Lime House, Los Angeles, California, Project Number: 122-EE136/CA16-S981-005.

Nature of Requirement: HUD's regulation at 24 CFR 891.100(d) prohibits amendment of the amount of approved capital advance funds prior to initial closing.

Granted By: John C. Weicher, Assistant Secretary for Housing-Federal Housing Commissioner.

Date Granted: August 30, 2001.

Reason Waived: The project was economically designed, comparable to other similar projects developed in the jurisdiction and all efforts to lower the cost of the project had been exhausted.

Contact: Dianna Plaugher, Office of Housing Assistance and Grant Administration, Department of Housing and Urban Development, 451 Seventh Street SW., Washington, DC 20410; telephone (202) 708-0614 extension 6791.

• Regulation: 24 CFR 891.100(d).

Project/Activity: NC Orange Senior Housing Corp., Orange, Essex County, New Jersey, Project Number: 031-EE048/NJ39-S981-005.

Nature of Requirement: HUD's regulation at 24 CFR 891.100(d) prohibits amendment of the amount of approved capital advance funds prior to initial closing.

Granted By: John C. Weicher, Assistant Secretary for Housing-Federal Housing Commissioner.

Date Granted: August 30, 2001.

Reason Waived: The Sponsor had secured a significant amount of outside funding to help with the cost of demolition, unanticipated remediation expenses associated with the presence of asbestos and additional costs incurred to satisfy site and design requirements imposed by the City. The Sponsor had no other means of funding the additional shortfall in project cost, and the project was comparable to similar projects in the area.

Contact: Evelyn Berry, Office of Housing Assistance and Grant Administration, Department of Housing and Urban Development, 451 Seventh Street SW., Washington, DC 20410; telephone (202) 708-0614 extension 2483.

• Regulation: 24 CFR 891.100(d).

Project/Activity: Jireh Villas, Columbus, Ohio, Project Number: 043-HD040/OH16-Q991-003.

Nature of Requirement: HUD's regulation at 24 CFR 891.100(d) prohibits amendment of the amount of approved capital advance funds prior to initial closing.

Granted By: John C. Weicher, Assistant Secretary for Housing-Federal Housing Commissioner.

Date Granted: August 30, 2001.

Reason Waived: The Owner exhausted all available funds. The project was modest in design and similar in construction to others in the area.

Contact: Eloise May, Office of Housing Assistance and Grant Administration, Department of Housing and Urban Development, 451 Seventh Street SW., Washington, DC 20410; telephone (202) 708-0614 extension 2651.

• Regulation: 24 CFR 891.100(d).

Project/Activity: Lookout Mountain VOA Housing, Summerville, Georgia, Project Number: 061-HD071/GA06-Q991-004.

Nature of Requirement: HUD's regulation at 24 CFR 891.100(d) prohibits amendment of the amount of approved capital advance funds prior to initial closing.

Granted By: John C. Weicher, Assistant Secretary for Housing-Federal Housing Commissioner.

Date Granted: September 14, 2001.

Reason Waived: The development costs in the area were high, the Sponsor/Owner had exerted extensive efforts to reduce the cost of construction. The project was economically designed and comparable to other similar projects developed in the area.

Contact: Rita Ross, Office of Housing Assistance and Grant Administration, Department of Housing and Urban Development, 451 Seventh Street SW., Washington, DC 20410; telephone (202) 708-0614 extension 2696.

• Regulation: 24 CFR 891.100(d).

Project/Activity: Montrose VOA Elderly Housing, Montrose, Colorado, Project Number: 101-EE046/CO99-S991-002

Nature of Requirement: HUD's regulation at 24 CFR 891.100(d) prohibits amendment of the amount of approved capital advance funds prior to initial closing.

Granted By: John C. Weicher, Assistant Secretary for Housing-Federal Housing Commissioner.

Date Granted: September 25, 2001.

Reason Waived: The project is modestly designed, the cost to construct the project is less than the cost to construct similar projects in the area, and the Sponsor has exhausted all efforts to secure additional funding for the project.

Contact: Gail Williamson, Office of Housing Assistance and Grant Administration, Department of Housing and Urban Development, 451 Seventh Street SW., Washington, DC 20410; telephone (202) 708-0614 extension 2473.

• Regulation: 24 CFR 891.100(d).

Project/Activity: North Pine Street Senior Housing, Ukiah, Mendocino County, California, Project Number: 121-EE119/CA39-S981-012.

Nature of Requirement: HUD's regulation at 24 CFR 891.100(d) prohibits amendment of the amount of approved capital advance funds prior to initial closing.

Granted By: John C. Weicher, Assistant Secretary for Housing-Federal Housing Commissioner.

Date Granted: September 25, 2001.

Reason Waived: The project is economically designed, comparable to similar projects in the area, and the Sponsor has exhausted all efforts to obtain the funds from other sources.

Contact: Brenda Butler, Office of Housing Assistance and Grant Administration, Department of Housing and Urban Development, 451 Seventh Street SW., Washington, DC 20410; telephone (202) 708-0614 extension 6788.

• Regulation: 24 CFR 891.100(d).

Project/Activity: Highview Unity Apartments, Charleston, West Virginia, Project Number: 045-EE010/WV15-S971-001.

Nature of Requirement: HUD's regulation at 24 CFR 891.100(d) prohibits amendment of the amount of approved capital advance funds prior to initial closing.

Granted By: John C. Weicher, Assistant Secretary for Housing-Federal Housing Commissioner.

Date Granted: September 25, 2001.

Reason Waived: Higher development costs have substantially increased the cost of the project. The project is economically designed and comparable to other projects in the area, and the Sponsor has exhausted all efforts to find additional funds from outside sources.

Contact: Frank Tolliver, Office of Housing Assistance and Grant Administration, Department of Housing and Urban Development, 451 Seventh Street SW., Washington, DC 20410; telephone (202) 708-0614 extension 3821.

• Regulation: 24 CFR 891.100(d).

Project/Activity: Allegria Court, Providence, Rhode Island, Project Number: 016-EE031/RI43-S991-002.

Nature of Requirement: HUD's regulation at 24 CFR 891.100(d) prohibits amendment of the amount of approved capital advance funds prior to initial closing.

Granted By: John C. Weicher, Assistant Secretary for Housing-Federal Housing Commissioner.

Date Granted: September 25, 2001.

Reason Waived: Development costs are higher than expected due to an increase in the Davis-Bacon wage rates, the project is economically designed and comparable to other projects in the area, and the Sponsor has exhausted all efforts to find additional funds from outside sources.

Contact: Frank Tolliver, Office of Housing Assistance and Grant Administration, Department of Housing and Urban Development, 451 Seventh Street SW., Washington, DC 20410; telephone (202) 708-0614 extension 3821.

• Regulation: 24 CFR 891.100(d).

Project/Activity: Mama Nyumba II, St. Louis, Missouri, Project Number: 085-HD029/MO36-Q001-001.

Nature of Requirement: HUD's regulation at 24 CFR 891.100(d) prohibits amendment of the amount of approved capital advance funds prior to initial closing.

Granted By: John C. Weicher, Assistant Secretary for Housing-Federal Housing Commissioner.

Date Granted: September 25, 2001.

Reason Waived: The project, is economically designed and comparable to other projects in the area, and the Sponsor has exhausted all efforts to find additional funds.

Contact: Frank Tolliver, Office of Housing Assistance and Grant Administration, Department of Housing and Urban Development, 451 Seventh Street SW., Washington, DC 20410; telephone (202) 708-0614 extension 3821.

• Regulation: 24 CFR 891.100(d) and 24 CFR 891.165.

Project/Activity: Greater St. Stephen Manor, New Orleans, Louisiana, Project Number: 064-EE083/LA48-S971-009.

Nature of Requirement: HUD's regulation at 24 CFR 891.100(d) prohibits amendment of the amount of approved capital advance funds prior to initial closing. HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: July 5, 2001.

Reason Waived: The project was delayed due to the difficulty of locating an architect who could design plans that were satisfactory for the project. Also, the project was economically designed, comparable to other similar projects developed in the jurisdiction, and the Sponsor had exhausted all efforts to obtain additional funding from other sources.

Contact: Brenda Butler, Office of Housing Assistance and Grant Administration, Department of Housing and Urban Development, 451 Seventh Street SW., Washington, DC 20410; telephone (202) 708-0614 extension 6788.

• Regulation: 24 CFR 891.100(d) and 24 CFR 891.165.

Project/Activity: Fort Washington Adventist Apartments, Fort Washington, Maryland, Project Number: 000-EE045/MD39-S971-001.

Nature of Requirement: HUD's regulation at 24 CFR 891.100(d) prohibits amendment of the amount of approved capital advance funds prior to initial closing. HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: July 25, 2001.

Reason Waived: Additional time was needed to file the Firm Commitment application due to the delay in receiving water and sewer allocation approval from the County Government. Also, the contractor increased his prices due to higher construction costs and higher Davis-Bacon wage rates, the project was economically designed and comparable to other project in the area, and the Sponsor had exhausted all efforts to find additional funds.

Contact: Frank Tolliver, Office of Housing Assistance and Grant Administration, Department of Housing and Urban Development, 451 Seventh Street SW., Washington, DC 20410; telephone (202) 708-0614 extension 3821.

• Regulation: 24 CFR 891.100(d) and 24 CFR 891.165.

Project/Activity: Edgewood Terrace III, Washington, DC Project Number: 000-EE047/DC39-S981-001.

Nature of Requirement: HUD's regulation at 24 CFR 891.100(d) prohibits amendment of the amount of approved capital advance funds prior to initial closing. HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: August 1, 2001.

Reason Waived: The project involved the conversion of an existing 300-unit public housing high rise into 73 Section 202 units and 127 mixed finance tax credit units, and the project had a complex layering of financing which had to be worked out. Also, the project was economically and modestly designed, comparable to similar projects developed in the area, and the Owner had no other additional funds to cover the shortfall of funds required to close the project.

Contact: Rita Ross, Office of Housing Assistance and Grant Administration, Department of Housing and Urban Development, 451 Seventh Street SW., Washington, DC 20410; telephone (202) 708-0614 extension 2696.

• Regulation: 24 CFR 891.165.

Project/Activity: Union Seniors, Los Angeles, California, Project Number: 122-EE133/CA16-Q981-002.

Nature of Requirement: HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: July 11, 2001.

Reason Waived: The project had been delayed due to the lengthy process on the plan check by the City of Los Angeles, and the review and approval process by other departments in the city.

Contact: Dianna Plaugher, Office of Housing Assistance and Grant Administration, Department of Housing and Urban Development, 451 Seventh Street SW., Washington, DC 20410; telephone (202) 708-0614 extension 6791.

• Regulation: 24 CFR 891.165.

Project/Activity: The Summerdale Court, Clairton, Allegheny County, Pennsylvania, Project Number: 033-HD039/PA28-Q971-001.

Nature of Requirement: HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: July 20, 2001.

Reason Waived: The project has been delayed due to litigation between the Owner corporation and the proposed locality because the City of Clairton refused to approve a conditional use permit.

Contact: Eloise May, Office of Housing Assistance and Grant Administration, Department of Housing and Urban Development, 451 Seventh Street SW., Washington, DC 20410; telephone (202) 708-0614 extension 2651.

• Regulation: 24 CFR 891.165.

Project/Activity: Sumac Trail Apartments, Rhinelander, Wisconsin, Project Number: 075-HD050/WI39-Q971-001.

Nature of Requirement: HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: July 20, 2001.

Reason Waived: The contractor resigned from the project, thereby, causing the Sponsor to need additional time to find a contractor, redesign the building, and resubmit the Firm Commitment.

Contact: Monique Love, Office of Housing Assistance and Grant Administration, Department of Housing and Urban Development, 451 Seventh Street SW., Washington, DC 20410; telephone (202) 708-0614 extension 2475.

• Regulation: 24 CFR 891.165.

Project/Activity: HSI/Eloise McCoy Village Apartments, Chicago, Illinois, Project Number: 071-EE115/IL06-S961-006.

Nature of Requirement: HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: August 2, 2001.

Reason Waived: There was a change in the site, environmental problems with the new site had to be resolved, the contractor's costs increased after processing was completed, and the Sponsor had to seek additional financing from the City of Chicago.

Contact: Carissa Janis, Office of Housing Assistance and Grant Administration, Department of Housing and Urban Development, 451 Seventh Street SW., Washington, DC 20410; telephone (202) 708-0614 extension 2487.

• Regulation: 24 CFR 891.165.

Project/Activity: Nashville Supportive Housing Development, Nashville-Davidson, Tennessee, Project Number: 086-HD016/TN43-Q971-001.

Nature of Requirement: HUD's regulation at 24 CFR 891.165 provides that the duration of the fund reservation for the capital advance is 18 months from the date of issuance with limited exceptions up to 24 months, as approved by HUD on a case-by-case basis.

Granted By: John C. Weicher, Assistant Secretary for Housing-Federal Housing Commissioner.

Date Granted: August 28, 2001.

Reason Waived: Several site difficulties remained to be worked out and the drawings could not be completed until the site issues were resolved.

Contact: Rita Ross, Office of Housing Assistance and Grant Administration, Department of Housing and Urban Development, 451 Seventh Street SW., Washington, DC 20410; telephone (202) 708-0614 extension 2696.

• Regulation: 24 CFR 891.165 and 24 CFR 891.205.

Project/Activity: Senior Residence at Kaneohe, Kaneohe, Oahu, Hawaii, Project Number: 140-EH015/HI10-Q961-003 and HI10-Q971-002.

Nature of Requirement: HUD's regulation at 24 CFR 891.165 provides that the duration of the fund reservation for the capital advance is 18 months from the date of issuance with limited exceptions up to 24 months, as approved by HUD on a case-by-case basis. Section 891.205 only permits acquisition of properties from FDIC/RTC.

Granted By: John C. Weicher, Assistant Secretary for Housing-Federal Housing Commissioner.

Date Granted: September 20, 2001.

Reason Waived: Additional time is needed to complete the cost certification due to the complicated financing structure used to construct the project.

Contact: Frank Tolliver, Office of Housing Assistance and Grant Administration, Department of Housing and Urban Development, 451 Seventh Street, SW., Washington, DC 20410; telephone (202) 708-0614 extension 3821.

• Regulation: 24 CFR 891.205.

Project/Activity: Elmwood House II, Marlton, New Jersey, Project Number: 035-EE043/NJ39-S001-005.

Nature of Requirement: Single-Purpose Owner. Section 891.205 requires that Section 202 project owners be single-purpose corporations.

Granted By: John C. Weicher, Assistant Secretary for Housing-Federal Housing Commissioner.

Date Granted: September 28, 2001.

Reason Waived: The Township is unwilling to allow the property to be subdivided and a single ownership entity in this case will result in cost savings and efficient management.

Contact: Evelyn Berry, Office of Housing Assistance and Grant Administration, Department of Housing and Urban Development, 451 Seventh Street, SW., Washington, DC 20410; telephone (202) 708-0614 extension 2483.

• Regulation: 24 CFR 891.310(b)(1) and (b)(2).

Project/Activity: Project Share VII, Suffolk County, New York, Project Number: 012-HD090/NY36-Q991-001.

Nature of Requirement: Accessibility requirements.

Granted By: John C. Weicher, Assistant Secretary for Housing-Federal Housing Commissioner.

Date Granted: August 28, 2001.

Reason Waived: The project consists of four group homes for independent living for the chronically mentally ill, each serving three residents. The sites are designed to allow one bedroom and all common spaces in one home to be fully accessible. As a result, 10 percent of the project's bedrooms will meet all accessibility requirements.

Contact: Brenda Butler, Office of Housing Assistance and Grant Administration, Department of Housing and Urban Development, 451 Seventh Street, SW., Washington, DC 20410; telephone (202) 708-0614 extension 6788.

• Regulation: 24 CFR 891.410(c).

Project/Activity: McIntyre School Apartments, Project Number: 024-EE015. The Boston Multifamily Hub has requested an income waiver for the subject project due to project vacancies.

Nature of Requirement: HUD regulations at 24 CFR 891.410(c) limits occupancy to Very Low Income elderly persons, i.e., households of one or more persons at least one of whom is 62 years of age at the time of initial occupancy.

Granted By: John C. Weicher, Assistant Secretary for Housing-Federal Housing Commissioner.

Date Granted: September 6, 2001.

Reason Waived: The Assistant Secretary has granted this waiver in order to allow the waiver of income restrictions to permit low-income individuals to reside at the subject 202/PRAC project. The project has one vacant unit and possible four more vacancies within the next month. If occupancy is increased, revenue will allow the project to meet operating expenses and continue as a viable project.

Contact: Ronald M. Wallace, Field Asset Management Division, Office of Asset Management, Room 6160, Department of Housing and Urban Development, 451 Seventh Street, SW., Washington, DC 20410; telephone: (202) 708-0614 extension 2590.

• Regulation: 24 CFR 891.410(c).

Project/Activity: Riverbend Apartments, Project Number: 064-EE039. The Fort Worth Multifamily Hub has requested an age and income waiver for the subject project in order to permit sustaining occupancy for the project.

Nature of Requirement: HUD regulations at 24 CFR 891.410(c) limit occupancy to Very Low Income elderly persons, i.e., households of one or more persons at least one of whom is 62 years of age at the time of initial occupancy.

Granted By: John C. Weicher, Assistant Secretary for Housing-Federal Housing Commissioner.

Date Granted: September 28, 2001.

Reason Waived: The Assistant Secretary found good cause to grant this waiver to allow occupancy by non-elderly disabled and handicapped persons age 50 to 62. It will work to alleviate the current occupancy and financial problems at the property and enable the project to continue to serve as an affordable housing resource for the public.

Contact: Veronica C. Lewis, Field Asset Management Division, Office of Asset Management, Room 6160, Department of Housing and Urban Development, 451 Seventh Street, SW., Washington, DC 20410; telephone: (202) 708-0614 extension 2597.

III. Regulatory Waivers Granted by the Office of Multifamily Housing Assistance Restructuring (OMHAR)

For further information about the following waiver actions, please see the name of the contact person who immediately follows the description of the waiver granted.

• Regulations: 24 CFR 401.461.

Project/Activity: The following project requested a waiver of the regulatory requirement that interest on Mark-to-Market second mortgages accrue but not compound:

FHA No. | Project name | State
052-35401 | Royal Oaks Apartments | Maryland.

Nature of Requirement: The Mark-to-Market program regulations (in 24 CFR 401.461(b)(1)) specify interest on second mortgages accrue but not compound. The intent of this provision is to limit the size of second mortgage accruals for properties subject to mortgage restructuring and rental assistance sufficiency plans (“Restructuring Plans”), thus positioning properties for a stronger likelihood of long-term financial and physical integrity.

Granted By: Barbara Chiapella, Acting Director of OMHAR.

Date Granted: July 26, 2001.

Reasons Waived: The owner requested the use of compound, rather than simple interest on the Mark-to-Market second mortgage. The waiver facilitated the owner's efforts with respect to the tax credit allocation for this property. The effect was to increase the scope of rehabilitation of the property, and to increase expected recoveries to the federal government.

Contact: Dan Sullivan, Office of Multifamily Housing Assistance Restructuring, Department of Housing and Urban Development, Portals Building, Suite 400, 1280 Maryland Avenue, Washington, DC 20410; telephone (202) 708-0001.

• Regulations: 24 CFR 401.461.

Project/Activity: The following projects requested waivers to the:

FHA No. | Project name | State
084-55040 | 71 Hawthorne Place | Missouri.
084-55052 | Hawthorne Place East | Missouri.
084-55005 | Hawthorne Place North | Missouri.
084-55014 | Hawthorne Place South | Missouri.

Nature of Requirement: The Mark-to-Market program regulations (in 24 CFR 401.461(b)(5)) allow HUD to forgive or modify the terms of second mortgages in order to facilitate transfers of properties to qualified nonprofit purchasers as part of a mortgage restructuring and rental assistance sufficiency plan (“Restructuring Plan”).

Granted By: Ira Peppercorn, Director of OMHAR.

Date Granted: August 2, 2001.

Reasons Waived: The 4 properties were part of a portfolio purchased by a qualified nonprofit organization prior to the development and implementation of a Restructuring Plan for each property, because the properties were initially ineligible for the Mark-to-Market program. Subsequently, by statute, the properties were deemed eligible. Not allowing forgiveness or modification of the Mark-to-Market second mortgages for these properties would result in the loss or deterioration of the properties and would discourage other transfers to qualified nonprofit purchasers.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
04635126 | Advent II | OH
04335206 | Alliance One | OH
04235277 | Alliance Towers | OH
11535166 | Arrowsmith Apartments | TX
08735080 | Athens Gardens Apts | TN
01257039 | Crotona VI | NY
07135379 | Deerfield Woods Apts. Phase I | IL
03344007 | East Mall | PA
03344007 | East Mall | PA
03344007 | East Mall | PA
03344007 | East Mall | PA
04235121 | Emeritus House (aka Phyllis Wheatley) | OH
04235162 | Erie Square #1 | OH
04235317 | Fairview Manor | OH
07335305 | Fountain Place Apartments | IN
04335211 | Glenwood Village | OH
08335299 | Greenville Park | KY
07235055 | Greystone Apartments | IL
09435023 | Holiday Village | ND
01744157 | Mansfield, Edgewood & Vine | CT
07535264 | Marinette Woods | WI
01257056 | Morrisania II | NY
08335044 | Riverside Apartments | KY
04535085 | Riverview Towers | WV
04635517 | Rolling Ridge Townhouses | OH
06135257 | Shadowood Apartments | GA
11235026 | Southpark Garden Apartments | TX
08444138 | Sunflower Park Apartments | KS
08444138 | Sunflower Park Apartments | KS
09335012 | The Downtowner | MT
01257034 | University Houses | NY
01735071 | Vine Associates | CT
11435272 | Waverly Village Apartments | TX

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: July 17, 2001.

Reasons Waived: The attached list of projects were not assigned to the PAEs in a timely manner or the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
01257151 | Aldus III | NY
06155068 | Athens Arms Apartments | GA
01444026 | BMR #3 | NY
01444047 | Braco-I | NY
04335220 | Citation | OH
01435019 | Covenant Manor | NY
01257072 | Ditmas II Apartments | NY
07135381 | Dixon Square | IL
07335307 | East Central Towers | IN
07535239 | Florence Terrace Apartments | WI
08335143 | Horse Hollow Apartments | KY
04392501 | Jaycee Manor Apartments | OH
08535262 | JVL #16 | MO
07155051 | Knollwood Apartments | IL
08335282 | Menifee Housing | KY
05235351 | Montpelier-Kennedy Apartments | MD
09335082 | Oakwood Village | MT
04235318 | Oberlin Manor | OH
04335221 | Odyssey | OH
01435034 | Pilgrim Village Apartments | NY
04235272 | Riverside Manor Apartments | OH
02335172 | Schoolhouse 77 | MA
04644088 | SEM Villa I | OH
09335084 | Silver Bow Village | MT
08335261 | Tree Top Apartments | KY
07335329 | Union City Apartments (aka South St. Village) | IN
10235132 | Vantage Point Apartments | KS
07135345 | Watch Hill Tower | IL
07235028 | Willow Oak Apartments I | IL
03535061 | Wrightstown Arms | NJ

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: September 17, 2001.

Reasons Waived: The attached list of projects were not assigned to the PAEs in a timely manner or the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
01257015 | 1992 Davidson Avenue | NY
04344003 | Capital Park Apartments | OH
04344003 | Capital Park Apartments | OH
08335142 | Cherokee Hills Apartments | KY
01444013 | Heritage Park Apartments | NY
04744022 | Lincolnshire of Albion | MI
01435030 | Meadow Park Apartments | NY
17135183 | Parkview Apartments | WA
03344002 | Penn Circle Towers | PA
03344002 | Penn Circle Towers | PA
03344002 | Penn Circle Towers | PA
03344002 | Penn Circle Towers | PA
03344002 | Penn Circle Towers | PA
01257024 | Risley Dent Towers | NY
11592503 | Union Park Apartments | TX
01635032 | Wickford Village | RI
11744108 | Woodcrest Apartments | OK

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: September 28, 2001.

Reasons Waived: The attached list of projects were not assigned to the PAEs in a timely manner or the restructuring analysis was unavoidably delayed due to no fault of the owner.

Contact: Alberta Zinno, Office of Multifamily Housing Assistance Restructuring, Department of Housing and Urban Development, Portals Building, Suite 400, 1280 Maryland Avenue, Washington, DC 20410; telephone (202) 708-0001.

IV. Regulatory Waivers Granted by the Office of Public and Indian Housing

For further information about the following waiver actions, please see the name of the contact person who immediately follows the description of the waiver granted.

• Regulation: 24 CFR 982.503(c)(2)(ii).

Project/Activity: Arlington Housing Authority, Massachusetts, Housing Choice Voucher Program.

Nature of Requirement: The regulation provides that the HUD field office may approve an exception payment standard between 110 and 120 percent of the published fair market rent if required as a reasonable accommodation for a family that includes a person with disabilities.

Granted By: Paula O. Blunt, Acting General Deputy Assistant Secretary for Public and Indian Housing.

Date Granted: August 30, 2001.

Reason Waived: Approval of the waiver to allow the field office to approve an exception payment standard in excess of 120 percent made it possible for a family that includes a person with disabilities to remain in their current unit for one year to allow the family more time to search for suitable alternative housing.

Contact: Gerald Benoit, Director, Real Estate and Housing Performance Division, Office of Public and Assisted Housing Delivery, Office of Public and Indian Housing, Room 4210, Department of Housing and Urban Development, 451 Seventh Street, SW., Washington, DC 20410, telephone (202) 708-0477.

• Regulation: 24 CFR 983.51 and 983.7(f)(2)(ii).

Project/Activity: Las Vegas Housing Authority (LVHA), Nevada, Project-based Assistance Program. LVHA requested a waiver to permit it to provide project-based subsidies for 52 units at Juan Garcia Gardens, a new 52-unit apartment development owned by the Ernie Cragin Limited Partnership. The LVHA and the Community Development Project Center of Nevada are general partners. LVHA will provide supportive services to the families that will reside at Juan Garcia Gardens. Juan Garcia Gardens is presently under construction and will be completed for occupancy by the end of 2001.

Nature of Requirement: The regulation requires HUD review and approval of a written selection policy and advertisement for the competitive selection of units to receive project-based assistance. This regulation also requires HUD field office selection of PBA-owned units.

Granted By: Paula O. Blunt, Acting General Deputy Assistant Secretary for Public and Indian Housing.

Date Granted: August 30, 2001.

Reason Waived: Approval of the waiver will provide for new development of affordable rental housing units for extremely low-income families.

Contact: Gerald Benoit, Director, Real Estate and Housing Performance Division, Office of Public and Assisted Housing Delivery, Office of Public and Indian Housing, Room 4210, Department of Housing and Urban Development, 451 Seventh Street, SW., Washington, DC 20410, telephone (202) 708-0477.

• Regulation: 24 CFR 983.51.

Project/Activity: Massachusetts Department of Housing and Community Development (DHCD), Massachusetts, Project-based Assistance Program. Massachusetts DHCD requested a waiver to permit it to select a YMCA proposal to provide project-based subsidies for 30 of 44 units to be renovated at the Pittsfield YMCA. The YMCA did not respond to the DCHA January 2001 advertisement to provide 100 project-based vouchers as part of its winter 2001 affordable housing funding round because it mistakenly believed that it already met the criteria to obtain project-based assistance (PBA) based on its 2000 award of affordable housing funding. The substantial rehabilitated project would convert 80 deteriorated single rooms into 44 studio apartments on floors three and four of the Pittsfield YMCA building. Start of the project had been delayed pending approval of PBA for 30 units that was needed to secure project financing.

Nature Of Requirement: The regulation requires HUD review and approval of a written selection policy and advertisement for the competitive selection of units to receive project-based assistance.

Granted By: Paula O. Blunt, Acting General Deputy Assistant Secretary for Public and Indian Housing.

Date Granted: September 5, 2001.

Reason Waived: Approval of the waiver will provide for new development of affordable rental housing units for extremely low-income families.

Contact: Gerald Benoit, Director, Real Estate and Housing Performance Division, Office of Public and Assisted Housing Delivery, Office of Public and Indian Housing, Room 4210, Department of Housing and Urban Development, 451 Seventh Street, SW., Washington, DC 20410, telephone (202) 708-0477.

• Regulation: 24 CFR 983.51.

Project/Activity: Housing Authority of Snohomish County, Washington, Project-based Assistance Program. The Housing Authority of Snohomish County, on behalf of seven public housing agencies (PHAs) in the Puget Sound region (Snohomish County, Pierce County, King County, Renton, Tacoma, Everett, and Seattle) requested a waiver to select projects funded under the Sound Families Initiative. The seven PHAs have agreed to provide housing choice voucher program project-based assistance (PBA) in support of the Sound Families Initiative. The Sound Families Initiative is a $40 million program of the Bill and Melinda Gates Foundation that provides capital and housing-related service funds to help build or renovate 1,560 transitional housing units for formerly homeless families over the next three years. The projects funded under the Sound Families Initiative will have project-specific social services budgets ($1,500 per unit, per year for five years) and will provide on-site case management services, including job referral and placement services and plans to increase family self-sufficiency. The projects that would be subsidized with PBA have already been selected under a formal, open and competitive request for proposals that was widely advertised, through the Sound Families Initiative web site.

Nature of Requirement: The regulation requires HUD review and approval of a written selection policy and advertisement for the competitive selection of units to receive project-based assistance.

Granted By: Michael Liu, Assistant Secretary for Public and Indian Housing.

Date Granted: September 25, 2001.

Reason Waived: Approval of the waiver will provide for supportive housing for formerly homeless families.

Contact: Gerald Benoit, Director, Real Estate and Housing Performance Division, Office of Public and Assisted Housing Delivery, Office of Public and Indian Housing, Room 4210, Department of Housing and Urban Development, 451 Seventh Street, SW., Washington, DC 20410, telephone (202) 708-0477.

• Regulation: 24 CFR 990.107(f) and 990.109.

Project/Activity: Area Housing Authority, County of Ventura, CA A request was made to permit the Authority to benefit from energy performance contracting for developments that have tenant-paid utilities. The HA estimates that it could increase savings substantially if it were able to undertake energy performance contracting for both PHA-paid and tenant-paid utilities.

Nature of Requirement: Under 24 CFR 990, Performance Funding System (PFS) energy conservation incentive that relates to energy performance contracting currently applies to only PHA-paid utilities. The Ventura Housing Authority has both PHA-paid and tenant-paid utilities.

Granted By: Paula O. Blunt, Acting General Deputy Assistant Secretary.

Date Granted: August 17, 2001.

Reason Waived: In September 1996, the Oakland Housing Authority was granted a waiver to permit the Authority to benefit from energy performance contracting for developments with tenant-paid utilities. The waiver was granted on the basis that the Authority presented a sound and reasonable methodology for doing so. The Ventura Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

Contact: Regina McGill, Director, Attn: Peggy Mangum, ex4039, Funding and Financial Management Division, Office of Public and Assisted Housing Delivery; Office of Public and Indian Housing, Room 4216; (202) 708-1872.

• Regulation: 24 CFR 1000.214.

Project/Activity: Waiver request for late submission of Indian Housing Plans (IHPs) for the Huron Band of Potawatomi, Fulton, Michigan; Little River Band of Ottowa, Minstee, Michigan; the Match-e-be-nash-she-wish Band, Dorr, Michigan and the Sac and Fox Tribe, Tama, Iowa.

Nature of Requirement: IHPs must be initially sent by the recipient to the Area Office of Native American Programs (ONAP) no later than July 1. Grant funds cannot be provided until the plan is submitted and determined to be in compliance with section 102 of the Native American Housing Assistance and Self-Determination Act (NAHASDA) of 1996, and funds are available.

Granted By: Michael Liu, Assistant Secretary of Public and Indian Housing.

Date Granted: September 17, 2001.

Reason Waived: The IHPs for Fiscal Year 2001 were received one day after the regulatory deadline cited in section 214 of Part 1000. This provision was waived as the due date fell on a Sunday, July 1, 2001.

Contact: Deborah Lalancette, Director, Grants Management, Denver Program ONAP, 1999 Broadway, Suite 3390, Denver, CO 80202, (303) 675-1600 extension 3325.

• Regulation: 24 CFR 1000.336(b).

Project/Activity: Request to waive the regulatory deadline for submitting a Census Challenge to the data to be used to compute the Indian Housing Block Grant (IHBG) allocation for the Pueblo of San Felipe, San Felipe Pueblo, New Mexico, for Fiscal Year 2002.

Nature of Requirement: An Indian tribe, tribally designated housing entity (TDHE), or HUD may challenge data used in the IHBG formula.

Granted By: Paula O. Blunt, Acting General Deputy Assistant Secretary.

Date Granted: July 20, 2001.

Reason Waived: This request was waived for the following reasons: (1) Section 6 of the Executive Order 13175, “Executive Order on Consultation and Cooperation with Tribal Governments” dated November 6, 2000, requires HUD to consider applications for regulatory waivers with a general view of increasing opportunities for utilizing flexible policy approaches. (2) Recent changes in the Pueblo of San Felipe's tribal administration have had a significant impact on the Tribe's TDHE, including reorganization and restructuring. (3) Reorganization and restructuring of the TDHE have limited the organization's capacity to submit a Census Challenge in a timely fashion.

Contact: Deborah Lalancette, Director, Grants Management, Denver Program ONAP, 1999 Broadway, Suite 3390, Denver, CO 80202, (303) 675-1600 extension 3325.

[FR Doc. 02-2180 Filed 1-29-02; 8:45 am]

BILLING CODE 4210-32-P